INTERNATIONAL TRADE COMMISSION

[Investigation No. 332-414]

Competitive Assessment of the U.S. Large Civil Aircraft Aerostructures Industry

AGENCY: United States International Trade Commission.

ACTION: Institution of investigation and scheduling of public hearing.

EFFECTIVE DATE: April 14, 2000.

SUMMARY: Following receipt of a request on March 13, 2000, from the Committee on Ways and Means of the U.S. House of Representatives, the Commission instituted investigation No. 332-414, Competitive Assessment of the U.S. Large Civil Aircraft Aerostructures Industry, under section 332(g) of the Tariff Act of 1930 (19 U.S.C. 1332(g)).

FOR FURTHER INFORMATION CONTACT: Industry-specific information may be obtained from Mr. Peder Andersen (202-205-3388), Office of Industries, U.S. International Trade Commission, Washington, DC 20436. For information on the legal aspects of this investigation contact Mr. William Gearhart of the Office of the General Counsel (202-205-3091). The media should contact Ms. Margaret O'Laughlin, Office of External Relations (202-205-1819). Hearing impaired individuals are advised that information on this matter can be obtained by contacting the TDD terminal on (202) 205-1810.

Background: As requested by the Committee, the Commission, pursuant to section 332(g) of the Tariff Act of 1930, has instituted an investigation and will prepare a report examining the civil aerostructures industry (e.g., fuselage, wings, and landing gear) in its capacity as a major supplier to the large civil aircraft (LCA) industry. This study will not include nonstructural components such as avionics and engines. The Commission will examine the composition of the industry and recent trends, the process of new aerostructures development, the means and trends in government supports and other financial assistance, and the relative strengths and weaknesses of the aerostructures industries in the United States, Europe, Canada, and to the extent possible, Asia. The report will focus on the ability of the U.S. civil aerostructures industry and certain of its suppliers to compete over the short and long terms with those industries in Europe, Canada, and to the extent possible, Asia.

Public Hearing: A public hearing in connection with the investigation will be held at the United States International Trade Commission Building, 500 E Street SW., Washington, DC, beginning at 9:30 a.m. on December 6, 2000. All persons will have the right to appear, by counsel or in person, to present information and to be heard. Requests to appear at the public hearing should be filed with the Secretary, United States International Trade Commission, 500 E Street SW., Washington, DC 20436, no later than 5:15 p.m., November 22, 2000. Any prehearing briefs (original and 14 copies) should be filed no later than 5:15 p.m., November 22, 2000; the deadline for filing post-hearing briefs or statements is 5:15 p.m., December 20, 2000. In the event that, as of the close of business on November 22, 2000, no witnesses are scheduled to appear at the hearing, the hearing will be canceled. Any person interested in attending the hearing as an observer or non-participant may call the Secretary of the Commission (202-205-1806) after November 22, 2000 to determine whether the hearing will be held.

Written Submissions: In lieu of or in addition to participating in the hearing, interested parties are invited to submit written statements concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested parties. To be assured of consideration by the Commission, written statements relating to the Commission's report should be submitted to the Commission at the earliest practical date and should be received no later than the close of business on December 20, 2000. All submissions should be addressed to the Secretary, United States International Trade Commission, 500 E Street SW., Washington, DC 20436. The Commission's rules do not authorize filing submissions with the Secretary by facsimile or electronic means.

Persons with mobility impairments who will need special assistance in gaining access to the Commission should contact the Office of the Secretary at (202) 205-2000. General information concerning the Commission may also be obtained by accessing its Internet server (http://www.usitc.gov).

By order of the Commission.
Issued: April 17, 2000.
Donna R. Koehnke,
Secretary.

[FR Doc. 00-10073 Filed 4-21-00; 8:45 am]

BILLING CODE 7020-02-P